ADMINISTRATIVE COMMITTEE OF THE FEDERAL REGISTER

1 CFR Part 11

RIN 3095-ZA03

Prices and Availability of Federal Register Publications

AGENCY: Administrative Committee of the Federal Register.

ACTION: Final rule.

SUMMARY: The Administrative Committee of the Federal Register announces increases in the prices charged for the paper and microfiche editions of Federal Register publications. The price changes apply to the daily Federal Register, the Federal Register Index and LSA (List of CFR Sections Affected), the Code of Federal Regulations, and the Weekly Compilation of Presidential Documents. The Administrative Committee has determined that it is necessary to increase prices to enable the Government Printing Office to recover more of the cost of producing and distributing Federal Register publications.

DATES: This final rule is effective September 24, 2001.

FOR FURTHER INFORMATION CONTACT: Michael White at 202-275-4292, ext. 275.

SUPPLEMENTARY INFORMATION:

Background

Under the Federal Register Act (44 U.S.C. Chapter 15), the Administrative Committee of the Federal Register is responsible for establishing the prices charged for Federal Register publications. Federal Register publications are sold and distributed to the public by the Government Printing Office's (GPO) Superintendent of Documents. The Administrative Committee periodically reviews data submitted by the Superintendent of Documents to determine whether subscription rates and single copy prices of Federal Register publications produce sufficient revenue to keep pace with GPO's printing, handling and distribution costs, as well as postal rate increases. GPO receives no appropriation for any of the costs associated with producing Federal Register publications. Sales revenue supports the costs of the sales program.

In January 2001, the Administrative Committee reviewed data submitted by the Government Printing Office (GPO). The data indicates that sales revenue is insufficient to cover the program costs of certain Federal Register publications. The shortfall in sales revenue is attributable to declining paper subscriptions, increases in GPO employee pay scales and benefits, higher paper prices, and a 12.7 percent increase in postal rates in 2001. Although GPO has taken aggressive measures to achieve savings in its sales program, such as reducing full time equivalent employee costs by 29 percent since 1994, a number of other factors have combined to make it necessary to raise the price of paper publications. Part of the increased program costs can be attributed to a rise in the number of pages printed per subscription. The number of pages printed for each subscription to the Federal Register has increased by more than 10 percent since 1997 (66,934 pages in 1997 as compared with 77,234 pages in 2000). A sharp decline in the number of paid subscriptions has also contributed to the need for price increases. Since 1994, when the Administrative Committee began providing online access to the Federal Register, subscriptions have fallen by 73 percent. The decline in paper subscription revenue far exceeds the savings realized from reduced production costs. As a result, handling costs must be allocated over a much smaller base of orders, forcing increases in the prices of paper publications.

Based on this information, the Administrative Committee determined that it should propose price increases for certain publications to more accurately reflect the current costs of production and distribution. The Administrative Committee published a proposed rule on price changes for Federal Register publications on June 6, 2001 at 66 FR 30340. The proposed pricing schedule took into account the actual production, handling and distribution costs for paper publications over the past year and projected costs for the remainder of 2001. In this final rule, the Administrative Committee adopts without change the new subscription rates and single copy prices as set out in the proposed rule.

The price changes issued in the final rule are reflected in amendments to 1 CFR part 11. The following rates will be effective September 24, 2001. The annual subscription rate for the daily Federal Register paper edition increases from $638 to $699. For a combined Federal Register, Federal Register Index and LSA (List of CFR Sections Affected) subscription, the rate increases from $697 to $764. The price of a single copy of the daily Federal Register paper edition increases from $9 to $10. The annual subscription rate for the microfiche edition of the Federal Register, which includes the Federal Register Index and LSA, increases from $253 to $264. The annual subscription price for the Federal Register Index increases from $28 to $30. The annual subscription price for the monthly LSA increases from $31 to $35. The annual subscription rate for a full set of the CFR paper edition increases from $1094 to $1195. The annual subscription rate for the microfiche edition of the CFR increases from $290 to $298. The annual subscription rates for the Weekly Compilation of Presidential Documents increase from $92 to $103 for delivery by non-priority mail and from $151 to $169 for delivery by first-class mail.

The changes to subscription rates for the paper editions amount to a 9.6 percent increase in the price of the Federal Register, a 9.2 percent increase in the price of the CFR, and a 12 percent increase in the price of the Weekly Compilation of Presidential Documents. The single copy prices for the Weekly Compilation of Presidential Documents and the microfiche editions of the daily Federal Register and CFR will not change.

In the proposed rule, the Administrative Committee acknowledged that subscribers who prefer the convenience of having the paper editions of Federal Register publications delivered to their places of business would incur additional expenses. However, the Committee also stated that individuals and small businesses would not be substantially affected because of the free access that is provided to the online editions on GPO Access and to the paper editions at Federal Depository libraries.

One person submitted a comment on the proposed rule. The commenter stated that the price increases did not adversely affect her ability to access Federal rules and policies. The commenter has relied on obtaining free access through a Depository library in the past and now uses the free online edition of the Federal Register on GPO Access. The commenter noted that having ready access to the online edition saves her the cost of driving at least 640 miles per year to a Depository library to do research and make photocopies.

Use of online Federal Register publications on the GPO Access service (http://www.access.gpo.gov/nara) has expanded rapidly since free service was introduced in late 1995. Information retrievals from the online edition of the Federal Register grew from just under 15 million documents in calendar year 1996 to over 61 million documents downloaded in calendar year 2000. Over the same period, information retrievals from the online edition of the CFR grew from about 725,000 documents to more than 93 million documents downloaded. The success of the online publications demonstrates that the Administrative Committee is fulfilling its mission to provide the public with essential information on the functions, actions, and regulatory requirements of the Federal government. At the same time, the Administrative Committee is constantly engaged in efforts to improve the quality of our online publications, including investments in new technology applications that will enhance e-government services to the public. In addition, GPO recently took new steps to significantly increase server capacity to meet the growing demand for online access to Federal Register publications. For members of the public who prefer to read the printed editions, GPO continues to provide free access to Federal Register publications at Federal Depository libraries located throughout the nation under funding provided by Congress.

Regulatory Analysis

Executive Order 12866

This rule has been drafted in accordance with Executive Order 12866, section 1(b), “Principles of Regulation.” The Administrative Committee consulted with the Office of Management and Budget (OMB) and determined that the rule does not meet the criteria for a significant regulatory action under Executive Order 12866. The annualized cost of the rule will be far less than $100 million and it does not meet any of the other criteria of section 3(f) of Executive Order 12866. Therefore, this final rule is not subject to OMB review.

Regulatory Flexibility Act

The Administrative Committee has determined that the Regulatory Flexibility Act, 5 U.S.C. 601 et seq., does not apply to rate increases necessary to recover the costs to the Government for printing and distributing Federal Register publications. This rule will not have a significant impact on a substantial number of small entities since it imposes no substantive requirements, and any increased costs can be avoided by accessing Federal Register publications through the free GPO Access service on the Internet or at a Federal depository library. Therefore, a regulatory flexibility analysis as provided in the Regulatory Flexibility Act, as amended, is not required.

Federalism

This rule has no Federalism implications under Executive Order 13132. It does not impose compliance costs on State or local governments or preempt State law.

Congressional Review

This rule is not a major rule as defined by 5 U.S.C. 804(2). The Administrative Committee will submit a rule report, including a copy of this final rule, to each House of the Congress and to the Comptroller General of the United States as required under the congressional review provisions of the Small Business Regulatory Enforcement Fairness Act of 1986.

List of Subjects in 1 CFR Part 11

Code of Federal Regulations, Federal Register, Government publications, Weekly Compilation of Presidential Documents.

For the reasons discussed in the preamble, the Administrative Committee of the Federal Register amends part 11 of chapter I of title 1 of the Code of Federal Regulations as set forth below:

PART 11—SUBSCRIPTIONS

1. The authority citation for part 11 continues to read as follows:

Authority: 44 U.S.C. 1506; sec. 6, E.O. 10530, 19 FR 2709, 3 CFR, 1954-1958 Comp., p. 189.

2. In § 11.2, revise paragraph (a) to read as follows:

§ 11.2 Federal Register.

(a) The subscription price for the paper edition of the daily Federal Register, including postage, is $699 per year. A combined subscription to the daily Federal Register, the monthly Federal Register Index, and the monthly LSA (List of CFR Sections Affected), including postage, is $764 per year for the paper edition, or $264 per year for the microfiche edition. Six-month subscriptions to the paper and microfiche editions are also available at one-half the annual rate. Limited quantities of current or recent issues may be purchased for $10 per copy for the paper edition, or $2 per copy for the microfiche edition.

* * * * *

3. In § 11.3, revise paragraph (a) to read as follows:

§ 11.3 Code of Federal Regulations.

(a) The subscription price for a complete set of the Code of Federal Regulations, including postage, is $1195 per year for the bound, paper edition, or $298 per year for the microfiche edition. The Government Printing Office sells individual volumes of the paper edition of the Code of Federal Regulations at prices determined by the Superintendent of Documents under the general direction of the Administrative Committee. The price of a single volume of the microfiche edition is $2 per copy.

* * * * *

4. In § 11.6, revise paragraph (a) to read as follows:

§ 11.6 Weekly Compilation of Presidential Documents.

(a) The subscription price for the paper edition of the Weekly Compilation of Presidential Documents is $103 per year for delivery by non-priority mail, or $169 per year for delivery by first-class mail. The price of an individual copy is $4.

* * * * *

5. Revise § 11.7 to read as follows:

§ 11.7 Federal Register Index.

The annual subscription price for the monthly Federal Register Index, purchased separately, in paper form, is $30.

6. Revise § 11.8 to read as follows:

§ 11.8 LSA (List of CFR Sections Affected).

The annual subscription price for the monthly LSA (List of CFR Sections Affected), purchased separately, in paper form, is $35.

John W. Carlin,
Chairman.
Michael F. Di Mario,
Member.
Rosemary Hart,
Member.
John D. Ashcroft,
Attorney General.
John W. Carlin,
Archivist of the United States.

[FR Doc. 01-21400 Filed 8-23-01; 8:45 am]

BILLING CODE 1505-02-P